DEPARTMENT OF HEALTH AND HUMAN SERVICES

Administration for Children and Families

Submission for OMB Review; The Study of Disability Services Coordinators and Inclusion in Head Start (New Collection)

AGENCY: Office of Planning, Research, and Evaluation, Administration for Children and Families, HHS.

ACTION: Request for public comment.

SUMMARY: This is a primary data collection request for the Study of Disability Services Coordinators and Inclusion in Head Start (New Collection). The study aims to provide a nationally representative picture of the Early Head Start (EHS) and Head Start (HS) Disability Services Coordinator (DSC) workforce, as well as services provided to children with disabilities and their families within these programs and how EHS/HS collaborates with services in the community, including health providers, Local Education Agencies, and Part C. This is the first study of the HS/EHS DSC workforce and will contain three Phases of data collection using surveys and qualitative interviews.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. All emailed requests should be identified by the title of the information collection.

SUPPLEMENTARY INFORMATION:

Description: The Study of DSCs and Inclusion in Head Start will support ACF in better understanding the implementation of EHS/HS policies and practices for delivering disability services. This study aims to present a nationally representative description of the characteristics and work of DSCs and related staff in EHS/HS programs and how EHS/HS serves children with disabilities and their families. The study will not allow for statistical generalization beyond EHS/HS and their service populations.

The study will report on inclusive practices, staffing, professional development, and collaboration with local education agencies, early intervention programs, health providers, and other community stakeholders who serve young children with disabilities and their families.

ACF aims to address the research questions through a national survey of EHS/HS program directors (PhasePhase 1), a survey with DSCs identified by the directors (Phase 2), and a one-time qualitative interview with a subset of DSCs who respond to the web-based survey (Phase 3). There are no data regarding the population of the DSC workforce and subgroups, preventing the team from setting a frame for selecting a nationally representative sample. Given the lack of administrative data and contact information about DSCs, it is essential that a national survey of EHS/HS directors (Phase 1) be conducted to identify DSC respondents. A purposive sample of DSCs who completed the Phase 2 survey will be asked to participate in a semi-structured, qualitative interview.

Data collection activities will occur over 15 months; the team anticipates January 2022 through March 2023. The proposed data collection will begin shortly after OMB approval. The three Phases of data collection will occur concurrently—the Phase 1 survey will be fielded for approximately 8 months; the Phase 2 survey will be fielded for approximately 12 months; and the Phase 3 interviews will be conducted over 4 months.

Respondents: Head Start Directors, Head Start Disability Service Coordinators.

Annual Burden Estimates

Values in the burden table have been updated since the 60 day Federal Register Notice regarding this study. Accuracy of the table values has been improved by review of response rates from studies with similar designs. In addition, the table has been informed by consultation with community advisors.

Instrument | Mode | Number of respondents (total over request period) | Number of responses per respondent (total over request period) | Average burden per response (in hours) | Total burden (in hours) | Annual burden (in hours)
Survey of EHS/HS Program Directors (Phase 1) | Web | 1,259 | 1 | 0.42 | 529 | 265
| Phone | 5 | 1 | 1.0 | 5 | 3
Survey of EHS/HS DSCs (Phase 2) | Web | 1,891 | 1 | 0.75 | 1,418 | 709
| Phone | 5 | 1 | 1.0 | 5 | 3
DSC Interview (Phase 3) | Phone | 36 | 1 | 0.75 | 27 | 14

Estimated Total Annual Burden: 994.

Authority: 42 U.S.C. 9835; 42 U.S.C. 9844.

Mary B. Jones,
ACF/OPRE Certifying Officer.

[FR Doc. 2021-21166 Filed 9-28-21; 8:45 am]

BILLING CODE 4184-22-P